DEPARTMENT OF THE INTERIOR

National Park Service

[NPS-WASO-D-COS-POL-25012; PPWODIREP0] [PPMPSPD1Y.YM0000]

Request for Nominations for the 400 Years of African-American History Commission

AGENCY: National Park Service, Interior.

ACTION: Request for nominations.

SUMMARY: The National Park Service (NPS), U.S. Department of the Interior is requesting nominations for qualified persons to serve as members of the Commission.

DATES: Nominations must be received by June 14, 2018.

ADDRESSES: Nominations should be sent to Christine Lucero, U.S. Department of the Interior, National Park Service, P.O. Box 210, Yorktown, Virginia 23690; or email christine_lucero@nps.gov.

FOR FURTHER INFORMATION CONTACT: Christine Lucero, U.S. Department of the Interior, National Park Service, P.O. Box 210, Yorktown, Virginia 23690, or via email at christine_lucero@nps.gov, or via telephone at (757) 856-1213.

SUPPLEMENTARY INFORMATION: The 400 Years of African-American History Commission was established by section 3 of Public Law 115-102. The purpose of the Commission is to develop and carry out activities throughout the United States to commemorate the 400th anniversary of the arrival of the first enslaved Africans to the English colonies at Point Comfort, Virginia, in 1619, at what is now Fort Monroe National Monument.

The Commission shall be composed of 15 members, of whom (A) 3 members shall be appointed by the Secretary after considering recommendations of Governors, including the Governor of Virginia; (B) 6 members shall be appointed by the Secretary after considering recommendations of civil rights organizations and historical organizations; (C) 1 member shall be an employee of the National Park Service having experience relative to the historical and cultural resources related to the commemoration, to be appointed by the Secretary; (D) 2 members shall be appointed by the Secretary after considering the recommendations of the Secretary of the Smithsonian Institution; and (E) 3 members shall be individuals who have an interest in, support for, and expertise appropriate to the commemoration, appointed by the Secretary after considering the recommendations of Members of Congress.

We are currently seeking members to represent all categories. The Commission will elect the chairperson. In addition to the primary members, alternates may be appointed to the Commission.

Nominations should be typed and should include a resume providing an adequate description of the nominee's qualifications, including information that would enable the Department of the Interior to make an informed decision regarding meeting the membership requirements of the Commission and permit the Department to contact a potential member. All documentation, including letters of recommendation, must be compiled and submitted in one complete package.

Members of the Commission will serve as special Government employees and be required on an annual basis to complete ethics training and file a Confidential Financial Disclosure Report. Members of the Commission serve without compensation. However, while away from their homes or regular places of business in the performance of services for the Commission as approved by the NPS, members may be allowed travel expenses, including per diem in lieu of subsistence, in the same manner as persons employed intermittently in Government service are allowed such expenses under section 5703 of title 5 of the United States Code.

Public Disclosure of Information: Before including your address, phone number, email address, or other personal identifying information with your nomination, you should be aware that your entire nomination—including your personal identifying information—may be made publicly available at any time. While you can ask us in your nomination to withhold your personal identifying information from public review, we cannot guarantee that we will be able to do so.

Authority: Public Law 115-102.

Alma Ripps,
Chief, Office of Policy.

[FR Doc. 2018-10269 Filed 5-14-18; 8:45 am]

BILLING CODE 4312-52-P